DEPARTMENT OF ENERGY

Federal Energy Regulatory Commission

[Docket No. RP01-369-001]

Mississippi River Transmission Corporation; Notice of Filing of Request for Extension of Time

September 25, 2001.

Take notice that on September 20, 2001, Mississippi River Transmission Corporation (MRT) tendered for filing a request for an extension of time until no later than April 1, 2002 to implement the Internet-related GISB Standards in Version 1.4. MRT states that a copy of this filing is being mailed to each party to this proceeding as reflected on the official service list compiled by the Secretary of the Commission.

Any person desiring to protest said filing should file a protest with the Federal Energy Regulatory Commission, 888 First Street, NE., Washington, DC 20426, in accordance with Section 385.211 of the Commission's Rules and Regulations. All such protests must be filed on or before October 2, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24309 Filed 9-27-01; 8:45 am]

BILLING CODE 6717-01-P